DEPARTMENT OF TRANSPORTATION

Federal Aviation Administration

14 CFR Part 71

[Docket No. FAA-2022-1613; Airspace Docket No. 22-ASO-27]

RIN 2120-AA66

Amendment of Class D and Class E Airspace, Key West, FL

AGENCY: Federal Aviation Administration (FAA), DOT.

ACTION: Final rule.

SUMMARY: This action amends Class D airspace, Class E airspace designated as an extension to a Class D surface area, and Class E airspace extending upward from 700 feet above the surface at Key West International Airport and Key West Naval Air Station (NAS), FL, as a result of biennial airspace evaluations. This action also updates the geographic coordinates for the airport and the Key West VORTAC.

DATES: Effective 0901 UTC, June 15, 2023. The Director of the Federal Register approves this incorporation by reference action under 1 CFR part 51, subject to the annual revision of FAA Order 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from the Office of the Federal Register's website at www.federalregister.gov.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591: telephone (202) 267-8783.

FOR FURTHER INFORMATION CONTACT: Jennifer Ledford, Operations Support Group, Eastern Service Center, Federal Aviation Administration, 1701 Columbia Avenue, College Park, GA 30337; Telephone: (404) 305-5946.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would amend airspace for Key West International Airport and Key West Naval Air Station (NAS), FL, to support IFR operations in the area.

History

The FAA published a notice of proposed rulemaking for Docket No. FAA-2022-1613 in the Federal Register (87 FR 78883, December 23, 2022) amending Class D airspace, Class E airspace designated as an extension to a Class D surface area, and Class E airspace extending upward from 700 feet above the surface at Key West International Airport and Key West Naval Air Station (NAS), FL, as a result of biennial airspace evaluations. Interested parties were invited to participate in this rulemaking effort by submitting written comments on the proposal to the FAA. No comments were received.

Differences From the NPRM

Subsequent to the publication of the Notice of Proposed Rulemaking, the FAA found the Key West International Airport geographic coordinates to be incorrect, as well as the geographic coordinates describing the Key West International Airport Class D airspace and Key West Naval Air Station Class D airspace points of intersection. This action corrects the errors. Controlled airspace is necessary for the safety and management of instrument flight rules (IFR) operations in the area.

Incorporation by Reference

Class D and E airspace designations are published in Paragraphs 5000, 6002, 6004, and 6005 of FAA Order JO 7400.11, Airspace Designations and Reporting Points, which is incorporated by reference in 14 CFR 71.1 on an annual basis. This document amends the current version of that order, FAA Order JO 7400.11G, dated August 19, 2022, and effective September 15, 2022. These updates will be published subsequently in the next update to FAA Order JO 7400.11. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending Class E airspace extending upward from 700 feet above the surface for Key West International Airport and Key West Naval Air Station (NAS) by extending the airspace for each airport from within a 6.4-mile radius to a 6.5-mile radius, and by updating the airport's geographic coordinates and the geographic coordinates describing the intersections of Class D airspace, to coincide with the FAA's database.

In addition, this action replaces the outdated terms Airport/Facility Directory with the term Chart Supplement and Notice to Airmen with the term Notice to Air Missions, in the Class D and Class E airspace descriptions.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order JO 7400.11G, Airspace Designations and Reporting Points, dated August 19, 2022, and effective September 15, 2022, is amended as follows:

Paragraph 5000 Class D Airspace.

* * * * *

ASO FL D Key West, FL [Amended]

Key West International Airport, FL

(Lat. 24°33′22″ N, long. 81°45′36″ W)

Key West NAS

(Lat. 24°34′29″ N, long. 81°41′12″ W)

That airspace extending upward from the surface to and including 2,500 feet MSL beginning at Lat. 24°37′11″ N, long. 81°44′41″ W; to Lat. 24°33′04″ N, long. 81°43′48″ W; to Lat. 24°31′15″ N, long. 81°45′22″ W; to Lat. 24°30′40″ N, long. 81°45′15″ W; thence counterclockwise via the 5.3-mile radius of Key West NAS to the intersection of the 3.9-mile radius of the Key West International Airport, thence clockwise via the 3.9-mile radius of the Key West International Airport to the point of beginning. This Class D airspace area is effective during the specific dates and times established in advance by a Notice to Air Missions. The effective date and time will thereafter be continuously published in the Chart Supplement.

ASO FL D Key West NAS, FL [Amended]

Key West NAS, FL

(Lat. 24°34′29″ N, long. 81°41′12″ W)

Key West International Airport

(Lat. 24°33′22″ N, long. 81°45′36″ W)

That airspace extending upward from the surface to and including 2,500 feet MSL within a 5.3-mile radius of Key West NAS, excluding that airspace within the Key West International Airport Class D airspace area. This Class D airspace area is effective during the specific dates and times established in advance by a Notice to Air Missions. The effective date and time will thereafter by continuously published in the Chart Supplement.

Paragraph 6004 Class E Airspace Designated as an Extension to Class D Surface Area.

* * * * *

ASO FL E4 Key West, FL [Amended]

Key West International Airport, FL

(Lat. 24°33′22″ N, long. 81°45′36″ W)

Key West NAS

(Lat. 24°34′29″ N, long. 81°41′12″ W)

Key West VORTAC

(Lat. 24°35′09″ N, long. 81°48′02″ W)

That airspace extending upward from the surface within 3.1 miles each side of the Key West VORTAC 309° radial extending from the 3.9-mile radius of the Key West International Airport and the 5.3-mile radius of Key West NAS to 7 miles northwest of the Key West VORTAC. This Class E airspace area is effective during the specific dates and time established in advance by a Notice to Air Missions. The effective date and time will thereafter be continuously published in the Chart Supplement.

Paragraph 6005 Class E Airspace Areas Extending Upward From 700 Feet or More Above the Surface of the Earth.

* * * * *

ASO FL E5 Key West, FL [Amended]

Key West International Airport, FL

(Lat 24°33′22″ N, long. 81°45′36″ W)

Key West VORTAC

(Lat 24°35′09″ N, long. 81°48′02″ W)

Key West NAS

(Lat 24°34′29″ N, long. 81°41′12″ W)

That airspace extending upward from 700 feet above the surface within a 6.5-mile radius of Key West International Airport and within 3.1 miles each side of the Key West VORTAC 309° radial, extending from the 6.5-mile radius to 7 miles northwest of the Key West VORTAC; within a 6.8-mile radius of Key West NAS (Boca Chica).

Issued in College Park, Georgia, on March 20, 2023.
Andreese C. Davis,
Manager, Airspace & Procedures Team South, Eastern Service Center, Air Traffic Organization.

[FR Doc. 2023-06618 Filed 3-30-23; 8:45 am]

BILLING CODE 4910-13-P